DEPARTMENT OF HOMELAND SECURITY

Federal Emergency Management Agency

44 CFR Part 64

[Docket ID FEMA-2011-0002; Internal Agency Docket No. FEMA-8183]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Maine:
Albion, Town of, Kennebec County | 230231 | December 10, 1975, Emerg; September 27, 1985, Reg; June 16, 2011, Susp | June 16, 2011 | June 16, 2011.
Augusta, City of, Kennebec County | 230067 | May 16, 1974, Emerg; April 1, 1981, Reg; June 16, 2011, Susp | ......do * | Do.
Belgrade, Town of, Kennebec County | 230232 | December 10, 1975, Emerg; January 16, 1987, Reg; June 16, 2011, Susp | ......do | Do.
Chelsea, Town of, Kennebec County | 230234 | October 1, 1975, Emerg; June 4, 1980, Reg; June 16, 2011, Susp | ......do | Do.
China, Town of, Kennebec County | 230235 | August 6, 1975, Emerg; June 5, 1989, Reg; June 16, 2011, Susp | ......do | Do.
Clinton, Town of, Kennebec County | 230236 | April 22, 1976, Emerg; May 3, 1990, Reg; June 16, 2011, Susp | ......do | Do.
Farmingdale, Town of, Kennebec County | 230164 | April 17, 1975, Emerg; September 30, 1980, Reg; June 16, 2011, Susp | ......do | Do.
Fayette, Town of, Kennebec County | 230237 | February 3, 2000, Emerg; October 1, 2002, Reg; June 16, 2011, Susp | ......do | Do.
Gardiner, City of, Kennebec County | 230068 | February 27, 1975, Emerg; May 15, 1980, Reg; June 16, 2011, Susp | ......do | Do.
Hallowell, City of, Kennebec County | 230069 | January 13, 1975, Emerg; November 15, 1979, Reg; June 16, 2011, Susp | ......do | Do.
Litchfield, Town of, Kennebec County | 230238 | February 18, 1976, Emerg; November 19, 1986, Reg; June 16, 2011, Susp | ......do | Do.
Manchester, Town of, Kennebec County | 230239 | May 30, 1975, Emerg; October 15, 1980, Reg; June 16, 2011, Susp | ......do | Do.
Monmouth, Town of, Kennebec County | 230240 | August 11, 1975, Emerg; September 3, 1980, Reg; June 16, 2011, Susp | ......do | Do.
Mount Vernon, Town of, Kennebec County | 230241 | February 9, 1976, Emerg; August 19, 1985, Reg; June 16, 2011, Susp | ......do | Do.
Randolph, Town of, Kennebec County | 230244 | August 5, 1975, Emerg; September 5, 1979, Reg; June 16, 2011, Susp | ......do | Do.
Readfield, Town of, Kennebec County | 230245 | October 24, 1975, Emerg; December 16, 1980, Reg; June 16, 2011, Susp | ......do | Do.
Rome, Town of, Kennebec County | 230246 | April 16, 1976, Emerg; May 17, 1988, Reg; June 16, 2011, Susp | ......do | Do.
Unity, Township of, Kennebec County | 230602 | April 25, 1975, Emerg; April 30, 1984, Reg; June 16, 2011, Susp | ......do | Do.
Vassalboro, Town of, Kennebec County | 230248 | July 24, 2005, Emerg; August 1, 2006, Reg; June 16, 2011, Susp | ......do | Do.
Waterville, City of, Kennebec County | 230070 | November 25, 1974, Emerg; February 17, 1988, Reg; June 16, 2011, Susp | ......do | Do.
Wayne, Town of, Kennebec County | 230188 | May 9, 1975, Emerg; April 3, 1989, Reg; June 16, 2011, Susp | ......do | Do.
Windsor, Town of, Kennebec County | 230251 | January 29, 1976, Emerg; February 4, 1987, Reg; June 16, 2011, Susp | ......do | Do.
Winthrop, Town of, Kennebec County | 230072 | June 23, 1975, Emerg; August 15, 1980, Reg; June 16, 2011, Susp | ......do | Do.
Region III
Virginia:
Alexandria, City of, Independent City. | 515519 | May 8, 1970, Emerg; May 8, 1970, Reg; June 16, 2011, Susp | ......do | Do.
Dinwiddie County, Unincorporated Areas | 510187 | January 16, 1974, Emerg; January 17, 1979, Reg; June 16, 2011, Susp | ......do | Do.
Hopewell, City of, Independent City | 510080 | May 27, 1975, Emerg; September 5, 1979, Reg; June 16, 2011, Susp | ......do | Do.
Region IV
Georgia:
Hiawassee, City of, Towns County | 130447 | September 15, 1992, Emerg; April 1, 1993, Reg; June 16, 2011, Susp | ......do | Do.
Towns County, Unincorporated Areas | 130253 | January 7, 1992, Emerg; July 6, 1998, Reg; June 16, 2011, Susp | ......do | Do.
Young Harris, City of, Towns County | 130174 | April 29, 1976, Emerg; May 4, 1988, Reg; June 16, 2011, Susp | ......do | Do.
Kentucky:
Lawrence County, Unincorporated Areas | 210258 | April 18, 1985, Emerg; April 18, 1985, Reg; June 16, 2011, Susp | ......do | Do.
Louisa, City of, Lawrence County | 210241 | August 8, 1975, Emerg; November 19, 1980, Reg; June 16, 2011, Susp | ......do | Do.
Mississippi: Wiggins, City of, Stone County | 280401 | June 27, 2006, Emerg; June 16, 2011, Reg; June 16, 2011, Susp | ......do | Do.
South Carolina:
Bennettsville, City of, Marlboro County | 450147 | July 17, 1974, Emerg; August 19, 1987, Reg; June 16, 2011, Susp | ......do | Do.
Kershaw, Town of, Lancaster County | 450119 | June 23, 1975, Emerg; September 30, 1976, Reg; June 16, 2011, Susp | ......do | Do.
Lancaster, City of, Lancaster County | 450121 | December 7, 1973, Emerg; July 5, 1982, Reg; June 16, 2011, Susp | ......do | Do.
Lancaster County, Unincorporated Areas | 450120 | July 3, 1975, Emerg; January 6, 1983, Reg; June 16, 2011, Susp | ......do | Do.
Marlboro County, Unincorporated Areas | 450146 | N/A, Emerg; August 11, 1997, Reg; June 16, 2011, Susp | ......do | Do.
Region V
Illinois:
Blue Mound, Village of, Macon County | 170946 | November 1, 1979, Emerg; July 18, 1985, Reg; June 16, 2011, Susp | ......do | Do.
Christian County, Unincorporated Areas | 170926 | May 27, 1993, Emerg; June 16, 2011, Reg; June 16, 2011, Susp | ......do | Do.
De Land, Village of, Piatt County | 170547 | November 20, 1975, Emerg; September 4, 1987, Reg; June 16, 2011, Susp | ......do | Do.
Decatur, City of, Macon County | 170429 | July 29, 1974, Emerg; August 1, 1979, Reg; June 16, 2011, Susp | ......do | Do.
Edinburg, Village of, Christian County | 175422 | July 3, 2003, Emerg; June 16, 2011, Reg; June 16, 2011, Susp | ......do | Do.
Forsyth, Village of, Macon County | 171017 | June 24, 1986, Emerg; January 6, 1988, Reg; June 16, 2011, Susp | ......do | Do.
Kincaid, Village of, Christian County | 170858 | April 7, 1976, Emerg; April 1, 1993, Reg; June 16, 2011, Susp | ......do | Do.
Long Creek, Village of, Macon County | 171016 | N/A, Emerg; December 16, 2002, Reg; June 16, 2011, Susp | ......do | Do.
Mansfield, Village of, Piatt County | 170549 | May 11, 1995, Emerg; June 16, 2011, Reg; June 16, 2011, Susp | ......do | Do.
Monticello, City of, Piatt County | 170550 | June 6, 1975, Emerg; May 15, 1991, Reg; June 16, 2011, Susp | ......do | Do.
Piatt County, Unincorporated Areas | 170542 | August 8, 1977, Emerg; September 1, 1986, Reg; June 16, 2011, Susp | ......do | Do.
Stonington, Village of, Christian County | 170037 | May 7, 1975, Emerg; September 28, 1979, Reg; June 16, 2011, Susp | ......do | Do.
Region VII
Iowa:
Beacon, City of, Mahaska County | 190452 | November 12, 1997, Emerg; March 1, 2001, Reg; June 16, 2011, Susp | ......do | Do.
Mahaska County, Unincorporated Areas | 190888 | March 5, 1994, Emerg; March 1, 1997, Reg; June 16, 2011, Susp | ......do | Do.
Oskaloosa, City of, Mahaska County | 190638 | N/A, Emerg; December 21, 2010, Reg; June 16, 2011, Susp | ......do | Do.
University Park, City of, Mahaska County | 190671 | January 2, 2008, Emerg; June 16, 2011, Reg; June 16, 2011, Susp | ......do | Do.
Missouri:
Bonne Terre, City of, St. Francois County | 290321 | June 20, 1975, Emerg; August 19, 1985, Reg; June 16, 2011, Susp | ......do | Do.
Camden County, Unincorporated Areas | 290789 | June 18, 1993, Emerg; May 1, 1994, Reg; June 16, 2011, Susp | ......do | Do.
Desloge, City of, St. Francois County | 290748 | December 19, 1977, Emerg; August 24, 1984, Reg; June 16, 2011, Susp | ......do | Do.
Farmington, City of, St. Francois County | 290323 | June 25, 1974, Emerg; January 16, 1981, Reg; June 16, 2011, Susp | ......do | Do.
Greenville, City of, Wayne County | 290450 | November 19, 1975, Emerg; August 1, 1986, Reg; June 16, 2011, Susp | ......do | Do.
Iron Mountain Lake, City of, St. Francois County | 290897 | October 13, 1988, Emerg; November 7, 2001, Reg; June 16, 2011, Susp | ......do | Do.
Leadwood, City of, St. Francois County | 290706 | November 18, 1977, Emerg; December 21, 1984, Reg; June 16, 2011, Susp | ......do | Do.
Macks Creek, Village of, Camden County | 290054 | August 25, 1975, Emerg; September 4, 1985, Reg; June 16, 2011, Susp | ......do | Do.
Osage Beach, City of, Camden and Miller Counties | 290671 | April 11, 2000, Emerg; June 16, 2011, Reg; June 16, 2011, Susp | ......do | Do.
Park Hills, City of, St. Francois County | 290920 | N/A, Emerg; March 22, 1995, Reg; June 16, 2011, Susp | ......do | Do.
Nebraska:
Crawford, City of, Dawes County | 310056 | June 27, 1975, Emerg; August 1, 1986, Reg; June 16, 2011, Susp | ......do | Do.
Dawes County, Unincorporated Areas | 310055 | June 26, 2007, Emerg; June 16, 2011, Reg; June 16, 2011, Susp | ......do | Do.
Region VIII
Montana: Ennis, Town of, Madison County | 300044 | July 16, 1976, Emerg; June 1, 1986, Reg; June 16, 2011, Susp | ......do | Do.
Wyoming:
Albany County, Unincorporated Areas | 560001 | June 21, 1984, Emerg; October 1, 1986, Reg; June 16, 2011, Susp | ......do | Do.
Laramie, City of, Albany County | 560002 | May 28, 1976, Emerg; July 16, 1979, Reg; June 16, 2011, Susp | ......do | Do.
*do = Ditto.
Code for reading third column: Emerg.—Emergency; Reg.—Regular; Susp.—Suspension.

Dated: May 24, 2011.
Sandra K. Knight,
Deputy Federal Insurance and Mitigation Administrator, Mitigation.

[FR Doc. 2011-14606 Filed 6-13-11; 8:45 am]

BILLING CODE 9110-12-P